DEPARTMENT OF HEALTH AND HUMAN SERVICES

Centers for Disease Control and Prevention

[30Day-64-03]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project

Information Collection Procedures for Requesting Public Health Assessments—(0923-0002)—Extension—The Agency for Toxic Substances and Disease Registry (ATSDR).

ATSDR is announcing the request for extension of the OMB-approved Information Collection Procedures for Requesting Public Health Assessments. ATSDR is authorized to consider petitions from the public that request public health assessments of sites where there is a threat of exposure to hazardous substances (42 U.S.C. 9604(i)(6)(B)). The Agency may conduct public health assessments of releases or facilities for which individuals provide information that people have been exposed to a hazardous substance, and for which the source of such exposure is a release, as defined under the Comprehensive Environmental Response, Compensation, and Liability Act of 1980 (CERCLA). The general administrative procedures for conducting public health assessments, including the information that must be submitted with each request, is described at 42 CFR 90.3, 90.4, and 90.5. Procedures for responding to petitions, decision criteria, and methodology for determining priorities may be found at 57 FR 37382-89. There are no costs to the respondents other than the time required for preparing a letter and for postage.

ATSDR anticipates approximately 34 requests will be received each year. This estimate is based on the number of requests received in the past five years and the expressions of interest (via telephone, letter, etc.) from members of the public, attorneys, and industry representatives. The annual burden hours are estimated to be 17.

Respondents | Number of respondents | Number of responses/respondent | Average burden/response (in hrs.)
General public | 34 | 1 | 30/60

Dated: August 13, 2003.
Nancy E. Cheal,
Acting Associate Director for Policy, Planning and Evaluation, Centers for Disease Control and Prevention.

[FR Doc. 03-21156 Filed 8-18-03; 8:45 am]

BILLING CODE 4163-18-P